DEPARTMENT OF THE TREASURY

Internal Revenue Service

26 CFR Part 300

[REG-148576-05]

RIN 1545-BF69

User Fees for Processing Installment Agreements; Hearing Cancellation

AGENCY: Internal Revenue Service, Treasury.

ACTION: Cancellation of notice of public hearing on proposed rulemaking.

SUMMARY: This document cancels a public hearing on proposed regulations under section 300 of the Internal Revenue Code relating to user fees for installment agreements.

DATES: The public hearing, originally scheduled for October 17, 2006, at 10 a.m. is cancelled.

FOR FURTHER INFORMATION CONTACT: Kelly Banks of the Publications and Regulations Branch, Legal Processing Division, Associate Chief Counsel (Procedure and Administration), at (202) 622-0392 (not a toll-free number).

SUPPLEMENTARY INFORMATION: A notice of proposed rulemaking and notice of public hearing that appeared in the Federal Register on Wednesday, August 30, 2006 (71 FR 51538), announced that a public hearing was scheduled for October 17, 2006, at 10 a.m. in the Auditorium, Internal Revenue Service, New Carrollton Building, 5000 Ellin Road, Lanham, MD 20706. The subject of the public hearing is under section 300 of the Internal Revenue Code.

The public comment period for these regulations expired on September 29, 2006. The notice of proposed rulemaking and notice of public hearing instructed those interested in testifying at the public hearing to submit a request to speak and an outline of the topics to be addressed. As of Monday, October 2, 2006, no one has requested to speak. Therefore, the public hearing scheduled for October 17, 2006, is cancelled.

Guy R. Traynor,
Chief, Publications and Regulations Branch, Legal Processing Division, Associate Chief Counsel (Procedure and Administration).

[FR Doc. E6-16718 Filed 10-10-06; 8:45 am]

BILLING CODE 4830-01-P